DEPARTMENT OF ENERGY

Federal Energy Regulatory Commission

[Docket No. RP04-12-000]

Florida Gas Transmission Company; Notice Of Technical Conference

December 18, 2003.

The Commission, in its order of October 31, 2003 in the referenced docket directed that a technical conference be held to address proposals by Florida Gas Transmission Company (FGT) regarding shipper reconversion to Rate Schedule SFTS and minimum nominations under Rate Schedule NNTS.¹

¹ 105 FERC ¶ 61,171 (2003), at p.

Take notice that a technical conference will be held on Wednesday, January 7, 2004, at 9 a.m., in a room to be designated at the Federal Energy Regulatory Commission, 888 First Street NE., Washington, DC 20426.

All interested parties are permitted to attend. For further information please contact: Andrea Hilliard at (202) 502-8288 or Frank Sparber at (202) 502-8335.

Magalie R. Salas,
Secretary.

[FR Doc. E3-00644 Filed 12-24-03; 8:45 am]

BILLING CODE 6717-01-P